DEPARTMENT OF TRANSPORTATION

Federal Aviation Administration

Approval of Noise Compatibility Program; Austin-Bergstrom International Airport, Austin, Texas

AGENCY: Federal Aviation Administration, DOT.

ACTION: Notice.

SUMMARY: The Federal Aviation Administration (FAA) announces its findings on the noise compatibility program submitted by the City of Austin for Austin-Bergstrom International Airport under the provisions of Title 49, U.S.C., Chapter 475 and CFR part 150. These findings are made in recognition of the description of Federal and non-federal responsibilities in Senate Report No. 96-52 (1980). On April 5, 1999, the FAA determined that the noise exposure maps submitted by the City of Austin for Austin-Bergstrom International Airport under part 150 were in compliance with applicable requirements. Subsequently, the City submitted a revised 2004 noise exposure map, which the FAA approved on May 8, 2000. On November 7, 2000, the Administrator approved the noise compatibility program. The measures requiring Federal approval of the program were approved.

DATES: The effective date of the FAA's approval of the noise compatibility program for Austin-Bergstrom International Airport is November 7, 2000.

FOR FURTHER INFORMATION CONTACT: Nan L. Terry, Department of Transportation, Federal Aviation Administration, 2601 Meacham Boulevard, Fort Worth, Texas, 76137, (817) 222-5607. Documents reflecting this FAA action maybe reviewed at this same location.

SUPPLEMENTARY INFORMATION: This notice announces that the FAA has given its overall approval to the noise compatibility program for the City of Austin for Austin-Bergstrom International Airport effective November 7, 2000.

Under Title 49 U.S.C., section 47504 (hereinafter referred to as “Title 49”), an airport operator who has previously submitted a noise exposure map may submit to the FAA a noise compatibility program which sets forth the measures taken or proposed by the airport operator for the reduction of existing non-compatible land uses within the area covered by the noise exposure maps. Title 49 requires such programs to be developed in consultation with interested and affected parties including local communities, government agencies, airport users, and FAA personnel.

Each airport noise compatibility program developed in accordance with Federal Aviation Regulations (FAR) part 150 is a local program, not a Federal Program. The FAA does not substitute its judgment for that of the airport proprietor with respect to which measures should be recommended for action. The FAA's approval or disapproval of FAR part 150 program recommendations is measured according to the standards expressed in part 150 and Title 49 and is limited to the following determinations:

a. The noise compatibility program was developed in accordance with the provisions and procedures of FAR part 150;

b. Program measures are reasonably consistent with achieving the goals of reducing existing non-compatible land uses around the airport and preventing the introduction of additional noncompatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to the FAA's approval of an airport noise compatibility program are delineated in FAR part 150, §150.5. Approval is not a determination concerning the acceptability of land uses under Federal, state, or local law. Approval does not by itself constitute a FAA implementing action. A request for Federal action or approval to implement specific noise compatibility measures may be required, and a FAA decision on the request may require an environmental assessment of the proposed action. Approval does not constitute a commitment by the FAA to financially assist in the implementation of the program nor a determination that all measures covered by the program are eligible for grant-in-aid funding from the FAA. Where Federal funding is sought, requests for program grants must be submitted to the FAA Airports Division Office in Forth Worth, Texas.

The City of Austin submitted to the FAA on May 25, 2000, the noise exposure maps, descriptions, and other documentation produced during the noise compatibility planning study conducted from October 1998 through May 2000. On April 5, 1999, the FAA determined that the noise exposure maps submitted by the City of Austin for Austin-Bergstrom International Airport under part 150 were in compliance with applicable requirements. Notices of these determinations were published in the Federal Register on April 20, 1999, and May 25, 2000, respectively.

The Austin-Bergstrom International Airport study contains a proposed noise compatibility program comprised of actions designed for phased implementation by airport management and adjacent jurisdictions. It was requested that the FAA evaluate and approve this material as a noise compatibility program as described in Title 49. The FAA began its review of the program on May 8, 2000, and was required by a provision of the Act to approve or disapprove the program within 180 days (other than the use of new flight procedures for noise control). Failure to approve or disapprove such program within the 180-day period shall be deemed to be an approval of such program.

The submitted program contained three proposed actions for noise mitigation on and off the airport that requested FAA approval. The FAA completed its review and determined that the procedural and substantive requirements of Title 49 and FAR part 150 have been satisfied. The overall program, therefore, was approved by the Administrator effective November 7, 2000.

Outright approval was granted for the three proposed action elements in the noise compatibility program where the City of Austin requested federal approval. Approved action elements included a “Fly Quiet Program” involving a voluntary preferential runway use policy and flight track management procedures, land use mitigation measures involving a land acquisition program and a sound insulation program, and program management measures involving a flight track and noise monitoring system, and provisions for updating the noise exposure map and noise compatibility program. These determinations are set forth in detail in a Record of Approval endorsed by the Administrator on November 7, 2000. The Record of Approval, as well as other evaluation materials and the documents comprising the submittal are available at the FAA office listed above and at the administrative offices of: City of Austin, Department of Aviation, Austin-Bergstrom International Airport, 3600 Presidential Boulevard, Austin, Texas 78719.

Issued in Fort Worth, Texas, November 20, 2000.
Naomi L. Saunders,
Manager, Airports Division.

[FR Doc. 00-31088 Filed 12-5-00; 8:45 am]

BILLING CODE 4910-13-M